DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 20, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Department of Agriculture

Office of the Chief Information Officer

Title: USDA eAuthentication Service Customer Registration.

OMB Control Number: 0503-0014.

Summary of Collection: The USDA Office of the Chief Information Officer (OCIO) has developed the eAuthentication system as a management and technical process that addresses user authentication and authorization prerequisites for providing services electronically. The process requires a voluntary one-time electronic self-registration to obtain an eAuthentication account for each USDA customer desiring access to online services or applications that require user eAuthentication. The information collected through the electronic self-registration process is necessary to enable the electronic authentication of users and grant them access to only those resources for which they are authorized. The authority to collect this information as well as the new Online Identity Proofing function can be found in section 2(c), of the Freedom to E-File Act (Pub. L. 106-222), the Government Paperwork Elimination Act (GPEA, Pub. L. 105-277), the Electronic Signatures in Global and National Commerce Act (E-Sign, Pub. L. 106-229), the E-Government Act of 2002 (H.R. 2458), and Gramm-Leach Bliley Act (Pub. L., 106-102, 502-504).

Need and Use of the Information: The USDA eAuthentication Service provides public and government businesses single sign-on capability for USDA applications, management of user credentials, and verification of identity, authorization, and electronic signatures. USDA eAuthentication obtains customer information through an electronic self-registration process provided through the eAuthentication website. The voluntary online self-registration process applies to USDA Agency customers, as well as employees who request access to protected USDA web applications and services via the internet. Users can register directly from the eAuthentication website located at www.eauth.egov.usda.gov. The information collected through the online self-registration process will be used to provide an eAuthentication account that will enable the electronic authentication of users. The users will then have access to authorized resources without needing to reauthenticate within the context of a single internet session. If the information is not ever collected, the user must continue to conduct business with USDA through the existing paper-based processes.

Description of Respondents: Farms; individuals or households; business or other for-profit; not-for-profit institutions; State, local or Tribal government.

Number of Respondents: 235,092.

Frequency of Responses: Reporting: On occasion; Third party disclosure.

Total Burden Hours: 27,270.

Ruth Brown,
Departmental Information Collection Clearance Officer.

[FR Doc. 2023-12997 Filed 6-16-23; 8:45 am]

BILLING CODE 3410-KR-P